OFFICE OF THE UNITED STATES TRADE REPRESENTATIVE

Determination Under the African Growth and Opportunity Act

AGENCY: Office of the United States Trade Representative.

ACTION: Notice.

SUMMARY: The United States Trade Representative (USTR) has determined that Eswatini (formerly known as Swaziland) has adopted an effective visa system and related procedures to prevent the unlawful transshipment of textile and apparel articles and the use of counterfeit documents in connection with the shipment of such articles, and has implemented and follows, or is making substantial progress towards implementing and following, the custom procedures required by the African Growth and Opportunity Act (AGOA). Therefore, imports of eligible products from Eswatini qualify for the textile and apparel benefits provided under the AGOA. The notice also makes conforming changes to the Harmonized Tariff Schedule of the United States to reflect the recent change in name of the Kingdom of Swaziland (Swaziland) to Eswatini.

DATES: This notice is applicable on July 3, 2018.

FOR FURTHER INFORMATION CONTACT: Constance Hamilton, Assistant United States Trade Representative for African Affairs at (202) 395-9514 or Constance_Hamilton@ustr.eop.gov.

SUPPLEMENTARY INFORMATION:

The AGOA (Title I of the Trade and Development Act of 2000, Public Law 106-200, as amended) provides preferential tariff treatment for imports of certain textile and apparel products of beneficiary sub-Saharan African countries. The textile and apparel trade benefits under AGOA are available to imports of eligible products from countries that the President designates as “beneficiary sub-Saharan African countries,” provided that these countries: (1) Have adopted an effective visa system and related procedures to prevent the unlawful transshipment of textile and apparel articles and the use of counterfeit documents in connection with shipment of such articles; and (2) have implemented and follow, or are making substantial progress towards implementing and following, certain customs procedures that assist the U.S. Customs and Border Protection in verifying the origin of the products.

In Proclamation 9687 dated December 22, 2017 (82 FR 61414), the President designated Swaziland (now known as Eswatini) as a “beneficiary sub-Saharan African country” and proclaimed, for the purposes of section 112(c) of AGOA, that Swaziland (now known as Eswatini) should be considered a lesser developed beneficiary sub-Saharan African country. Based on the actions Eswatini has taken, the United States Trade Representative has determined that Eswatini has satisfied the two requirements for eligibility for textile and apparel benefits under AGOA. In Proclamation 7350 of October 2, 2000, the President authorized the United States Trade Representative to perform the function of determining whether eligible sub-Saharan countries have met the two requirements described above. The President directed the United States Trade Representative to announce any such determinations in the Federal Register and to implement them through modifications in the Harmonized Tariff Schedule of the United States (HTS).

Accordingly, pursuant to the authority vested in the United States Trade Representative in Proclamation 7350, U.S. note 7(a) to subchapter II of chapter 98 of the HTS, is modified by inserting “Eswatini” in alphabetical sequence in the list of countries, and U.S. notes 1 and 2(d) to subchapter XIX of chapter 98 of the HTS are modified to add in numerical sequence, in the list of designated sub-Saharan African countries, the name “Eswatini,” in alphabetical sequence and to delete therefrom “Kingdom of Swaziland”. The foregoing modifications to the HTS are effective with respect to articles entered for consumption, or withdrawn from warehouse for consumption, on or after the effective date of this notice. Imports claiming preferential tariff treatment under the AGOA for entries of textile and apparel articles should ensure that those entries meet the applicable visa requirements. See 66 FR 7837 (January 25, 2001).

Presidential Proclamation 6969 of January 27, 1997 (62 FR 4415), authorizes the United States Trade Representative to exercise the authority provided to the President under section 604 of the Trade Act (19 U.S.C. 2483) to embody rectifications, technical or conforming changes, or similar modifications in the HTS. Pursuant to the delegated authority vested in the United States Trade Representative in Proclamation 6969, general notes 4(a) and 16(a) to the HTS are each modified by deleting “Swaziland” and by inserting in alphabetical sequence in such notes “Eswatini”, in order to reflect the recent change in name of Swaziland to Eswatini.

Robert Lighthizer,
United States Trade Representative.

[FR Doc. 2018-14230 Filed 7-2-18; 8:45 am]

BILLING CODE 3290-F8-P